DEPARTMENT OF TRANSPORTATION

Federal Aviation Administration

14 CFR Part 71

[Docket No. FAA-2010-0599; Airspace Docket No. 10-AWA-3]

RIN 2120-AA66

Amendment of Class C Airspace; Flint, MI

AGENCY: Federal Aviation Administration (FAA), DOT.

ACTION: Final rule.

SUMMARY: This action amends the legal description of the Bishop International Airport, Flint, MI, Class C airspace area by amending the airport reference point (ARP) information for the airport. This amendment is necessitated by the removal of Runway 5/23 and installation of a parallel taxiway along a portion of Runway 9/27, which changed the configuration of the airport and, consequently, changed the ARP. This action is necessary for the safety of aircraft operating in the Flint, MI, airspace area.

DATES: Effective date 0901 UTC, September 23, 2010. The Director of the Federal Register approves this incorporation by reference action under 1 CFR part 51, subject to the annual revision of FAA Order 7400.9 and publication of conforming amendments.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

In the autumn of 2009, a major construction project at Bishop International Airport, Flint, MI, was completed that entailed removing Runway 5/23, which was not an operating runway, and installing a “south parallel” taxiway along the eastern portion of Runway 9/27. Prior to construction, airport runway configuration made it possible for aircraft to mistake the 3,900 foot Runway 23 for the 7,200 foot Runway 27. There was also no capability for an aircraft to taxi to the approach end of Runway 27 from the south side of the airport without either back taxiing on the runway or crossing the runway and taxiing on the north side parallel to the approach end. As a result of the runway removal and taxiway installation, the airport layout changed enough to affect the ARP location, which defines the Class C airspace area's center point.

The Rule

This action amends Title 14 Code of Federal Regulations (CFR) part 71 by amending the ARP information contained in the legal description of the Bishop International Airport, Flint, MI, Class C airspace area to reflect current National Airspace System data. The correct ARP information, which the Class C airspace area is centered around, is latitude 42°57′56″ N., longitude 83°44′41″ W. Although the construction project affected the ARP, there are no other changes to the dimensions or altitudes of the Class C airspace area. Therefore, notice and public comment under 5 U.S.C. 553(b) are unnecessary.

Class C airspace areas are published in paragraph 4000 of FAA Order 7400.9T signed August 27, 2009, and effective September 15, 2009, which is incorporated by reference in 14 CFR 71.1. The Class C airspace area listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends Class C airspace at Bishop International Airport, Flint, MI.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9T, Airspace Designations and Reporting Points, signed August 27, 2009, and effective September 15, 2009, is amended as follows:

Paragraph 4000 Subpart C—Class C Airspace

* * * * *

AGL MI C Flint, Bishop International Airport, MI [Amended]

Bishop International Airport, MI

(Lat. 42°57′56″ N., long. 83°44′41″ W.)

That airspace extending upward from the surface to and including 4,800 feet MSL within a 5-mile radius of the Bishop International Airport; and that airspace extending upward from 2,100 feet MSL to and including 4,800 feet MSL within a 10-mile radius of the airport. This Class C airspace area is effective during the specific dates and times established in advance by a Notice to Airmen. The effective date and time will thereafter be continuously published in the Airport/Facility Directory.

Issued in Washington, DC, June 29, 2010.
Paul Gallant,
Acting Manager, Airspace and Rules Group.

[FR Doc. 2010-16469 Filed 7-7-10; 8:45 am]

BILLING CODE 4910-13-P